DEPARTMENT OF AGRICULTURE

Animal and Plant Health Inspection Service

9 CFR Part 94

[Docket No. 01-029-2]

Change in Disease Status of the Republic of San Marino and the Independent Principalities of Andorra and Monaco

AGENCY: Animal and Plant Health Inspection Service, USDA.

ACTION: Affirmation of interim rule as final rule.

SUMMARY: We are adopting as a final rule, without change, an interim rule that amended the regulations by adding the Republic of San Marino and the independent principalities of Andorra and Monaco to the list of regions that present an undue risk of introducing bovine spongiform encephalopathy into the United States because their import requirements are less restrictive than those required for import into the United States and/or because of inadequate surveillance. The interim rule placed restrictions on the importation of ruminants that have been in Andorra, Monaco, or San Marino and meat, meat products, and certain other products of ruminants that have been in Andorra, Monaco, or San Marino. The interim rule was necessary in order to prevent the introduction of bovine spongiform encephalopathy into the United States.

EFFECTIVE DATE: The interim rule became effective on May 29, 2001.

FOR FURTHER INFORMATION CONTACT: Dr. Donna Malloy, Senior Staff Veterinarian, National Center for Import and Export, Products Program, VS, APHIS, 4700 River Road Unit 40, Riverdale, MD 20737-1231; (301) 734-3277.

SUPPLEMENTARY INFORMATION:

Background

In an interim rule effective May 29, 2001, and published in the Federal Register on June 4, 2001 (66 FR 29899-29900, Docket No. 01-029-1), we amended 9 CFR part 94 by adding the Republic of San Marino and the independent principalities of Andorra and Monaco to the list of regions that present an undue risk of introducing bovine spongiform encephalopathy (BSE) into the United States because their import requirements are less restrictive than those required for import into the United States and/or because of inadequate surveillance. That action was necessary on an emergency basis to prevent the introduction of BSE into the United States.

Comments on the interim rule were required to be received on or before August 3, 2001. We did not receive any comments. Therefore, for the reasons given in the interim rule, we are adopting the interim rule as a final rule.

This action also affirms the information contained in the interim rule concerning Executive Order 12866 and the Regulatory Flexibility Act, Executive Order 12988, and the Paperwork Reduction Act.

Further, for this action, the Office of Management and Budget has waived the review process required by Executive Order 12866.

List of Subjects in 9 CFR Part 94

Animal diseases, Imports, Livestock, Meat and meat products, Milk, Poultry and poultry products, Reporting and recordkeeping requirements.

PART 94—RINDERPEST, FOOT-AND-MOUTH DISEASE, FOWL PEST (FOWL PLAGUE), EXOTIC NEWCASTLE DISEASE, AFRICAN SWINE FEVER, HOG CHOLERA, AND BOVINE SPONGIFORM ENCEPHALOPATHY: PROHIBITED AND RESTRICTED IMPORTATIONS

Accordingly, we are adopting as a final rule, without change, the interim rule that amended 9 CFR part 94 and that was published at 66 FR 29899-29900 on June 4, 2001.

Authority: 7 U.S.C. 450, 7711, 7712, 7713, 7714, 7751, and 7754; 19 U.S.C. 1306; 21 U.S.C. 111, 114a, 134a, 134b, 134c, 134f, 136, and 136a; 31 U.S.C. 9701; 42 U.S.C. 4331 and 4332; 7 CFR 2.22, 2.80 and 371.4.

Done in Washington, DC, this 6th day of December 2001.
W. Ron DeHaven,
Acting Administrator, Animal and Plant Health Inspection Service.

[FR Doc. 01-30601 Filed 12-10-01; 8:45 am]

BILLING CODE 3410-34-P